NATIONAL AERONAUTICS AND SPACE ADMINSTRATION

[Notice ( 05-064)]

NASA Sun Solar System Connection Strategic Roadmap Committee; Meeting by Telephone Conference

AGENCY: National Aeronautics and Space Administration (NASA).

ACTION: Notice of meeting.

SUMMARY: In accordance with the Federal Advisory Committee Act, Public Law 92-463, as amended, the National Aeronautics and Space Administration announces a meeting by teleconference of the NASA Sun Solar System Connection Strategic Roadmap Committee.

DATES: Wednesday, April 13, 2005, from 3:30 p.m., to 5 p.m., Eastern Standard Time.

Phone Number: Public Access Listen Only—1-800-857-0373, passcode: 4111801#.

FOR FURTHER INFORMATION CONTACT: Dr. Barbara Giles, 202-358-1762.

SUPPLEMENTARY INFORMATION: The meeting will be open to the public up to the line capacity of the conference telephone system.

The agenda for the meeting is as follows:

—Discussion of draft SSSC strategic roadmap

It is imperative that the meeting be held on these dates to accommodate the scheduling priorities of the key participants.

P. Diane Rausch,
Advisory Committee Management Officer, National Aeronautics and Space Administration.

[FR Doc. 05-6208 Filed 3-29-05; 8:45 am]

BILLING CODE 7510-13-P